DEPARTMENT OF HEALTH AND HUMAN SERVICES

Health Resources and Services Administration

Children's Hospitals Graduate Medical Education (CHGME) Payment Program

AGENCY: Health Resources and Services Administration, HHS.

ACTION: Notice of children's hospitals graduate medical education (CHGME) Payment Program conference calls.

SUMMARY: This document announces scheduled CHGME Payment Program conference calls for calendar year 2003. The purpose of these conference calls is to provide technical assistance related to the CHGME Payment Program.

DATES: The conference calls will be held on Wednesday, January 22, 2003, from 1:30 p.m. to 3:30 p.m. e.s.t., Wednesday, April 23, 2003, from 1:30 p.m. to 3:30 p.m. e.s.t., and Wednesday, October 22, 2003, from 1:30 p.m. to 3:30 p.m. e.s.t.

FOR FURTHER INFORMATION CONTACT: Ayah E. Johnson, Ph.D., telephone: (301) 443-1058; Division of Medicine and Dentistry, Bureau of Health Professions, Health Resources and Services Administration, Parklawn Building, 5600 Fishers Lane, Room 9A-27, Rockville, Maryland 20857; or by e-mail at: ajohnson@hrsa.gov.

SUPPLEMENTARY INFORMATION: The CHGME Payment Program, as authorized by section 340E of the Public Health Service (PHS) Act (the Act) (42 U.S.C. 256e), provides funds to children's hospitals to address disparity in the level of Federal funding for children's hospitals that result from Medicare funding for graduate medical education (GME). Pub. L. 106-310 amended the CHGME statute to extend the program through fiscal year (FY) 2005.

The statute authorized $280 million for both direct and indirect medical education payments in FY 2000, $285 million in FY 2001, and for each of the FY 2002 through FY 2005 such sums as necessary. Congress appropriated $40 million in FY2000, $235 million in FY2001, and $285 million in FY2002 for the Program. These funds have supported over 4,000 residents receiving training in children's teaching hospitals in 31 states.

The agenda for the conference calls will include but not be limited to: (1) Welcome and opening comments; (2) news releases/updates; (3) reminders; and (4) “on the horizon” topics of interest. Time will also be available for a question and answer period. Agenda items will be determined as priorities dictate.

Interested parties must register, in advance, but not later than 5 days prior to the scheduled conference call(s). Conference call registration forms and information about the Program can be found on the CHGME Payment Program web site. The web site address is http://bhpr.hrsa.gov/childrenshospitalgme.

Dated: November 4, 2002.
Elizabeth M. Duke,
Administrator.

[FR Doc. 02-28758 Filed 11-12-02; 8:45 am]

BILLING CODE 4165-15-P